DEPARTMENT OF ENERGY

Federal Energy Regulatory Commission

[Docket No. PR98-11-003]

Pan Energy Louisiana Intrastate, LLC; Notice To Change Statement of Operating Conditions

July 24, 2002.

Take notice that on June 28, 2002, Pan Energy Louisiana Intrastate, LLC (PELICO) filed, pursuant to Section 284.123(e) of the Commission's regulations, a revised Statement of Operating Conditions to reflect a change in the index price for delivery points from the Gas Daily Tennessee, 100 Leg Index to the Gas Daily Tennessee, 500 Leg Index. In addition, PELICO is reflecting a change in name from Pan Energy Louisiana Intrastate Company to Pan Energy Louisiana Intrastate, LLC. PELICO requests a proposed effective date of July 1, 2002.

Pursuant to section 284.123(b)(2)(ii), if the Commission does not act within 150 days of the date of this filing, the rates will be deemed to be fair and equitable and not in excess of an amount which interstate pipelines would be permitted to charge for similar transportation service. The Commission may, prior to the expiration of the 150 day period, extend the time for action or institute a proceeding to afford parties an opportunity for written comments and for the oral presentation of views, data, and arguments.

Any person desiring to protest this rate proceeding must file a protest with the Federal Energy Regulatory Commission, 888 First Street, NE., Washington DC 20426, in accordance with Section 385.211 of the Commission's Rules and Regulations. All such protests must be filed with the Secretary of the Commission on or before August 8, 2002. Protests will be considered by the Commission in determining the appropriate action to be taken, but will not serve to make protestants parties to the proceedings. This petition is on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-19210 Filed 7-29-02; 8:45 am]

BILLING CODE 6717-01-P